DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 26, 2017. Address written comments to Statutory Import Programs Staff, Room 3720, U.S. Department of Commerce, Washington, DC 20230. Applications may be examined between 8:30 a.m. and 5:00 p.m. at the U.S. Department of Commerce in Room 3720.

Docket Number: 16-023. Applicant: Princeton University, 701 Carnegie Center, Princeton, NJ 08540. Instrument: Electron Microscope. Manufacturer: FEI Company, Czech Republic. Intended Use: The instrument will be used for room temperature imaging, quantitative chemical analysis/mapping, and electron diffraction. Justification for Duty-Free Entry: There are no instruments of the same general category manufactured in the United States. Application accepted by Commissioner of Customs: November 30, 2016.

Docket Number: 16-027. Applicant: Yale University, 333 Cedar St., New Haven, CT 06510. Instrument: OneFive Laser System Katana-08 HP. Manufacturer: Onefive, Switzerland. Intended Use: The instrument will be used as a depletion source to saturate STED depletion profile in samples containing both endogenously expressed fluorescent proteins as well as antibody labeled organic dyes. The experiments require a high power pulsed depletion source at a wavelength of 775 nm to saturate the depletion profile in STED microscopy to achieve resolution below the diffraction limit. The picosecond pulse profile is needed to synchronize the depletion pulse with the excitation pulse. Minimal after pulse tail and sub 100 ps pulse width are also required. Justification for Duty-Free Entry: There are no instruments of the same general category manufactured in the United States. Application accepted by Commissioner of Customs: December 16, 2016.

Docket Number: 17-001. Applicant: Barnard College, 3009 Broadway, New York, NY 10027. Instrument: Positioner for a prototype Schwarzchild Couder Telescope (pSCT). Manufacturer: DESY-DeutchesElektronen-Synchrotron, Germany. Intended Use: The instrument will be used to point the pSCT at astrophysical gamma-ray sources to detect and measure optical Cherenkov light flashes produced in the Earth's atmosphere by very high energy gamma ray photons. The instrument is a unique piece constructed as part of a design project called the Cherenkov Telescope Array (CTA), which is being developed by the international astronomical community. DESY is the only company who builds an instrument of this kind. Justification for Duty-Free Entry: There are no instruments of the same general category manufactured in the United States. Application accepted by Commissioner of Customs: January 10, 2017.

Dated: March 31, 2017.
Gregory W. Campbell,
Director of Subsidies Enforcement, Enforcement and Compliance.

[FR Doc. 2017-06825 Filed 4-5-17; 8:45 am]

BILLING CODE 3510-DS-P